DEPARTMENT OF THE INTERIOR

Bureau of Ocean Energy Management

[Docket No. BOEM-2024-0033]

Notice of Availability of a Final Environmental Impact Statement for US Wind Inc.'s Proposed Wind Energy Facility Offshore Maryland

AGENCY: Bureau of Ocean Energy Management, Interior.

ACTION: Notice of availability; final environmental impact statement.

SUMMARY: The Bureau of Ocean Energy Management (BOEM) announces the availability of the final environmental impact statement (FEIS) on US Wind Inc.'s (US Wind) construction and operations plan (COP) for its proposed Maryland Offshore Wind Project (Project). The FEIS analyzes the potential environmental impacts of the Project as described in the COP (the proposed action) and the alternatives to the proposed action, including the no action alternative. The FEIS will inform BOEM's decision whether to approve, approve with modifications, or disapprove the COP.

ADDRESSES: The FEIS and detailed information about the Project, including the COP, can be found on BOEM's website at: https://www.boem.gov/renewable-energy/state-activities/maryland-offshore-wind.

FOR FURTHER INFORMATION CONTACT: Lorena Edenfield, BOEM Office of Renewable Energy Programs, 45600 Woodland Road, Sterling, Virginia 20166, (907) 231-7679 or Lorena.Edenfield@boem.gov.

SUPPLEMENTARY INFORMATION:

Proposed Action: US Wind seeks approval to construct, operate, and maintain a wind energy facility and its associated export cables on the Outer Continental Shelf (OCS) offshore Maryland. The Project would be developed within the range of design parameters outlined in the Maryland Offshore Wind COP, subject to the applicable mitigation measures.

The Project as proposed in the COP would include up to 121 wind turbine generators (WTGs), up to four offshore substations with one offshore export cable route, and one meteorological tower under the terms of Renewable Energy Lease OCS-A 0490. The lease area is located ten miles off the coast of Maryland. The onshore components of the Project would include a cable landfall area at 3Rs beach in Delaware. From the landfall, onshore cables would continue along an inshore cable export route in Indian River Bay to connect to a single onshore substation adjacent to the point of interconnection in Dagsboro, Delaware.

Alternatives: BOEM considered 14 alternatives when preparing the draft environmental impact statement and carried forward five alternatives for further analysis. These five alternatives include four action alternatives and a no action alternative. Nine alternatives were not analyzed in detail because they did not meet the purpose and need for the proposed action or did not meet screening criteria, which are presented in Chapter 2 of the final EIS. The screening criteria included consistency with law and regulations, technical and economic feasibility, environmental impact, and geographic considerations.

Availability of the FEIS: The FEIS, US Wind COP, and associated information are available on BOEM's website at: https://www.boem.gov/renewable-energy/state-activities/maryland-offshore-wind. BOEM has distributed digital copies of the FEIS to all parties listed in FEIS Appendix N. If you would like a flash drive or paper copy, BOEM will provide one upon request, as long as supplies are available. You may request a flash drive or paper copy of the FEIS by contacting Lorena Edenfield at (907) 231-7679 or Lorena.Edenfield@boem.gov.

Cooperating Agencies: The following Federal agencies and State governmental entities participated as cooperating agencies under the National Environmental Policy Act in the preparation of the FEIS: Bureau of Safety and Environmental Enforcement; U.S. Environmental Protection Agency; National Marine Fisheries Service; U.S. Army Corps of Engineers; U.S. Coast Guard; National Park Service; and Delaware Department of Natural Resources and Environmental Control.

Authority: 42 U.S.C. 4231 et seq. (NEPA, as amended) and 40 CFR 1506.6.

Karen Baker,
Chief, Office of Renewable Energy Programs, Bureau of Ocean Energy Management.

[FR Doc. 2024-17035 Filed 8-1-24; 8:45 am]

BILLING CODE 4340-98-P